DEPARTMENT OF STATE

[Public Notice #4036]

Request for Comments; United States Privatization of Intergovernmental Satellite

The Department of State requests comments regarding the effects of the privatization of Inmarsat and INTELSAT on the United States industry, United States jobs, and United States industry access to the to the global marketplace. The Department notes that Inmarsat privatized on April 15, 1999 and INTELSAT privatized on July 18, 2001.

On March 17, 2000, the President signed into law the Open-Market Reorganization for the Betterment of International Telecommunications (ORBIT) Act, Public Law No. 106-180. This legislation seeks to “promote a fully competitive global market for satellite communications services for the benefit of consumers and providers of satellite services and equipment by fully privatizing the intergovernmental satellite organizations, INTELSAT and Inmarsat.” Id. at sec. 2. In addition, the ORBIT Act requires the President to provide an annual report to Congress on the progress of privatization in relation to the objectives, purposes, and provisions of the Act, including the “[v]iews of the industry and consumers on privatization” and the “[i]mpact privatization has had on United States industry, United States jobs, and United States industry's access to the global marketplace.” See id. at sec. 646(b)(3) and (4). The first such report was released on February 27, 2001.¹ By this public notice and RFC, we are soliciting the views of the industry and consumers on the privatizations.

¹ See Department of State, Report to Congress, Report Pursuant to Section 646(a) of Section 3 of the Open-Market Reorganization for the Betterment of International Telecommunications Act (Pub. L. 106-180), (Feb. 2001) [“ORBIT Report”].

DATES: Comments must be received by July 19, 2002.

ADDRESSES: The Department invites the public to submit written comments in paper or electronic form. Comments may be mailed to Deepti Rohatgi, Office of the Coordinator—International Communications and Information Policy Mail Code EB/CIP, U.S. Department of State, 2201 C Street, NW., Washington, DC 20520-5820. Paper submissions should include a version on diskette in ASCII, Word Perfect (please specify version), or Microsoft Word (please specify version) format.

Comments submitted in electronic form may be sent to ebcipsatellites@state.gov. Electronic comments should be submitted in the formats specified above.

Comments submitted electronically will be posted on the Department's Web site at http://www.state.gov/e/eb/cip.

FOR FURTHER INFORMATION CONTACT: Deepti Rohatgi (202) 647-5832.

SUPPLEMENTARY INFORMATION:

Background

INTELSAT was created as an intergovernmental organization (with final charter entering into force on February 12, 1973) to enhance global communications and to spread the risks of creating a global satellite system across operating companies and agencies from many countries.² On July 18, 2001, INTELSAT was fully privatized by transferring all of its operating assets to Intelsat LLC, a Bermuda corporation that enjoys no privileges or immunities. Inmarsat was created as an intergovernmental organization (with its final charter entering into force on July 16, 1979) to improve global maritime communications through a satellite system that would provide distress and safety communications services to seafaring nations in a cooperative, cost-sharing entity. On April 15, 1999, Inmarsat was fully privatized by transferring its assets and operations to Inmarsat Ltd., a U.K. corporation that enjoys no privileges or immunities. Previously, INTELSAT had divested some of its satellites in 1998 to New Skies Satellites, NV, a Netherlands corporation.³

² See Treaty on Principles Governing the Activities of States in the Exploration and Use of Outer Space, Including the Moon and Other Celestial Bodies.

³ Although both ISOs are fully privatized, two small residual intergovernmental organizations, ITSO from INTELSAT, and IMSO (International Mobile Satellite Organization) from Inmarsat, will remain to monitor the performance of certain public services.

Dated: June 11, 2002.
Steven W. Lett,
Deputy U.S. Coordinator, International, Communications Information Policy, Department of State.

[FR Doc. 02-15974 Filed 7-3-02; 8:45 am]

BILLING CODE 4710-45-P